FEDERAL COMMUNICATIONS COMMISSION

Sunshine Act Meeting; Addition to Agenda for October 17, 2012 Open Meeting

October 16, 2012.

The following presentation has been added to the list of Agenda items scheduled for the Wednesday, October 17, 2012, Open Meeting and previously listed in the Commission's Notice of October 10, 2012.

Wireless Carrier Usage Alerts To Prevent Bill Shock

• Pursuant to CTIA's revision to its Code of Conduct for Wireless Service last year, October 17, 2012 is the deadline by which the participating CTIA member wireless carriers must provide their subscribers with at least two of the specified four types of alerts to allow consumers to avoid unexpected charges for wireless usage exceeding their plan limits, and for additional charges for international roaming. The Consumer and Governmental Affairs Bureau will provide a status report of the participating carriers' compliance with this requirement.

Federal Communications Commission.
Gloria J. Miles,
Federal Register Liaison, Office of the Secretary, Office of Managing Director.

[FR Doc. 2012-26036 Filed 10-18-12; 4:15 pm]

BILLING CODE 6712-01-P